DEPARTMENT OF THE INTERIOR

Fish and Wildlife Service

[FWS-R2-ES-2016-N003; FXES11130200000-167-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before March 30, 2016.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-81811B

Applicant: Jeremy Henson, Round Rock, Texas.

Applicant requests a new permit for research and recovery purposes to conduct presence/absence surveys for the following species in Arizona, New Mexico, Texas, and Oklahoma:

• Interior least tern (Sterna antillarum)

• northern aplomado falcon (Falco femoralis septentrionalis)

• red-cockaded woodpecker (Picoides borealis)

• Houston toad (Bufo houstonensis)

• golden-cheeked warbler (Dendroica chrysoparia)

• Navasota ladies'-tresses (Spiranthes parksii)

• large-fruited sand-verbena (Abronia macrocarpa)

Permit TE-23162B

Applicant: Eric L. Herman, Cochise, Arizona.

Applicant requests an amendment to a current permit for research and recovery purposes to conduct presence/absence and nest surveys for southwestern willow flycatcher (Empidonax traillii extimus) within Texas, California, and Nevada.

Permit TE-58226B

Applicant: Hall, James A., Dripping Springs, Texas.

Applicant requests an amendment to a current permit for research and recovery purposes to conduct presence/absence surveys for black-capped vireo (Vireo atricapilla) within Texas.

Permit TE-094375

Applicant: Azimuth Forestry Services, Inc., Shelbyville, Texas.

Applicant requests a new permit for research and recovery purposes to conduct presence/absence surveys and collect voucher specimens (plants) of the following species within Texas:

• Red-cockaded woodpecker (Picoides borealis)

• Texas prairie dawn-flower (Hymenoxys texana)

• Navasota ladies'-tresses (Spiranthes parksii)

• white bladderpod (Lesquerella pallida)

• Texas trailing phlox (Phlox nivalis ssp. texensis)

Permit TE-82339B

Applicant: Tracy R. White, Austin, Texas.

Applicant requests a new permit for research and recovery purposes to conduct presence/absence surveys for golden-cheeked warbler (Dendroica chrysoparia) within Texas.

Permit TE-802211

Applicant: Texas State University—San Marcos, San Marcos, Texas.

Applicant requests an amendment to a current permit for research and recovery purposes to collect and display for educational purposes the following species within Texas:

• Austin blind salamander (Eurycea waterlooensis)

• Barton Springs salamander (Eurycea sosorum)

• Jollyville Plateau salamander (Eurycea tonkawae)

• Georgetown salamander (Eurycea naufragia)

• Salado salamander (Eurycea chisholmensis)

• Pecos assiminea (Assiminea pecos)

• Coffin Cave mold beetle (Batrisodes texanus)

• Helotes mold beetle (Batrisodes venyivi)

• Robber Baron Cave meshweaver (Cicurina baronia)

• Madla's Cave meshweaver (Cicurina madla)

• Braken Bat Cave meshweaver (Cicurina venii)

• Government Canyon Bat Cave meshweaver (Cicurina vespera)

• diminutive amphipod (Gammarus hyalleloides)

• Pecos amphipod (Gammarus pecos)

• Comal Springs riffle beetle (Heterelmis comalensis)

• American burying beetle (Nicrophorus americanus)

• Diamond tryonia (Pseudotryonia adamantina)

• Phantom tryonia (Tryonia cheatumi)

• Gonzales tryonia (Tryonia circumstriata [= stocktonensis])

• ground beetle (Rhadine exilis)

• ground beetle (Rhadine infernalis)

• Tooth Cave ground beetle (Rhadine persephone)

• Peck's Cave amphipod (Stygobromus [=Stygonectes] pecki)

• Comal Springs dryopid beetle (Stygoparnus comalensis)

• Tooth Cave pseudoscorpion (Tartarocreagris texana)

• Government Canyon Bat Cave spider (Neoleptoneta microps)

• Tooth Cave spider (Leptoneta myopica)

• Kretschmarr Cave mold beetle (Texamaurops reddelli)

• Cokendolpher Cave harvestman (Texella cokendolpheri)

• Bee Creek Cave harvestman (Texella reddelli)

• Bone Cave harvestman (Texella reyesi)

• Phantom springsnail (Pyrgulopsis texana)

Permit TE-054791

Applicant: Bryce L. Marshall, Flagstaff, Arizona.

Applicant requests an amendment to a current permit for research and recovery purposes to conduct presence/absence surveys for New Mexico meadow jumping mouse (Zapus hudsonius luteus) within New Mexico.

Permit TE-84336B

Applicant: Reed Kraemer, Phoenix, Arizona.

Applicant requests a new permit for research and recovery purposes to conduct presence/absence surveys for the following species within Arizona, New Mexico, and Texas:

• Black-capped vireo (Vireo atricapilla)

• golden-cheeked warbler (Dendroica chrysoparia)

• southwestern willow flycatcher (Empidonax traillii extimus)

Permit TE-798920

Applicant: City of Austin Balcones Canyonlands Preserve, Austin, Texas.

Applicant requests an amendment to a current permit for research and recovery purposes to conduct mist-netting and banding activities for black-capped vireo (Vireo atricapilla) within Texas.

Permit TE-61046B

Applicant: Christina Perez, Baton Rouge, Louisiana.

Applicant requests an amendment to a current permit for research and recovery purposes to conduct presence/absence surveys for American burying beetle (Nicrophorus americanus) within Texas, Arkansas, Kansas, and Nebraska.

Permit TE-80165B

Applicant: Kale Wetekamm, Baton Rouge, Louisiana.

Applicant requests a new permit for research and recovery purposes to conduct presence/absence surveys of American burying beetle (Nicrophorus americanus) within Oklahoma.

Permit TE-84375B

Applicant: Mary Elizabeth Johnson, Arlington, Texas.

Applicant requests a new permit for research and recovery purposes to conduct presence/absence surveys of American burying beetle (Nicrophorus americanus) within Texas, Oklahoma, Arkansas, and Kansas.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: February 10, 2016.
Stewart Jacks,
Acting Regional Director, Southwest Region, U.S. Fish and Wildlife Service.

[FR Doc. 2016-04298 Filed 2-26-16; 8:45 am]

BILLING CODE 4333-15-P